DEPARTMENT OF THE TREASURY

Alcohol and Tobacco Tax and Trade Bureau

27 CFR Part 4, 5, and 7

[Docket No. TTB-2010-0008; Notice No. 114; Re: Notice No. 111]

RIN 1513-AB79

Disclosure of Cochineal Extract and Carmine in the Labeling of Wines, Distilled Spirits, and Malt Beverages; Comment Period Extension

AGENCY: Alcohol and Tobacco Tax and Trade Bureau, Treasury.

ACTION: Notice of proposed rulemaking; extension of comment period.

SUMMARY: In response to a request from a national trade association, TTB is extending for an additional 60 days the comment period prescribed in Notice No. 111, Disclosure of Cochineal Extract and Carmine in the Labeling of Wines, Distilled Spirits, and Malt Beverages, a notice of proposed rulemaking published in the Federal Register on November 3, 2010.

DATES: Written comments on Notice No. 111 are now due on or before March 4, 2011.

ADDRESSES: You may send comments on Notice No. 111 to one of the following addresses:

• http://www.regulations.gov: Use the comment form for Notice No. 111 as posted within Docket No. TTB-2010-0008 on “Regulations.gov,” the Federal e-rulemaking portal, to submit comments via the Internet;

• Mail: Director, Regulations and Rulings Division, Alcohol and Tobacco Tax and Trade Bureau, P.O. Box 14412, Washington, DC 20044-4412.

• Hand Delivery/Courier in Lieu of Mail: Alcohol and Tobacco Tax and Trade Bureau, 1310 G Street, NW., Suite 200-E, Washington, DC 20005.

See the Public Participation section of Notice No. 111 for specific instructions and requirements for submitting comments, and for information on how to request a public hearing.

You may view copies of this notice, Notice No. 111, and any comments TTB receives in response to Notice No. 111 within Docket No. TTB-2010-0008 at http://www.regulations.gov. A direct link to this docket is posted on the TTB Web site at http://www.ttb.gov/regulations_laws/all_rulemaking.shtml under Notice No. 111. You also may view copies of this notice, Notice No. 111, and any comments TTB receives in response to Notice No. 111 by appointment at the TTB Information Resource Center, 1310 G Street, NW., Washington, DC 20220. Please call 202-453-2270 to make an appointment.

FOR FURTHER INFORMATION CONTACT: Lisa M. Gesser, Regulations and Rulings Division, Alcohol and Tobacco Tax and Trade Bureau, P.O. Box 128, Morganza, MD 20660; telephone (301) 290-1460; or Joanne C. Brady, Regulations and Rulings Division, Alcohol and Tobacco Tax and Trade Bureau, P.O. Box 45797, Philadelphia, PA 19149; telephone (215) 333-7050.

SUPPLEMENTARY INFORMATION:

In Notice No. 111 published in the Federal Register (75 FR 67669) on Wednesday, November 3, 2010, TTB proposed to revise its regulations to require the disclosure of the presence of cochineal extract and carmine on the labels of any alcohol beverage product containing one or both of these color additives. This proposed rule responded to a recent final rule issued by the Food and Drug Administration as well as reports of severe allergic reaction, including anaphylaxis, to cochineal extract and carmine-containing foods. This proposal would allow consumers who are allergic to cochineal extract or carmine to identify and thus avoid alcohol beverage products that contain these color additives. TTB requested comments on the proposal on or before January 3, 2011.

TTB received a letter dated December 17, 2010, from attorney Lynne J. Omlie on behalf of the Distilled Spirits Council of the United States, Inc. (DISCUS), a national trade association that represents producers and marketers of distilled spirits and importers of wines sold in the United States. The letter explained that because DISCUS is in the process of collecting information from domestic and foreign companies, regarding alcohol beverage products that may be impacted by the Notice No. 111 proposal, the organization would be unable to meet the original January 3, 2011, comment deadline prescribed in Notice No. 111. The letter therefore requested a 60-day extension of the comment period for Notice No. 111 to allow DISCUS the necessary time to collect and review this data and provide a comment that addresses the issues raised in the proposal.

In response to this request TTB extends the comment period for Notice No. 111 an additional 60 days. Therefore, the comments on Notice No. 111 are now due on or before March 4, 2011.

Drafting Information

Kate M. Bresnahan of the Regulations and Rulings Division drafted this notice.

Signed: December 22, 2010.
Cheri D. Mitchell,
Administrator.

[FR Doc. 2010-32877 Filed 12-28-10; 8:45 am]

BILLING CODE 4810-31-P